DEPARTMENT OF TRANSPORTATION

Federal Aviation Administration

14 CFR Part 71

[Docket No. FAA-2021-1043; Airspace Docket No. 21-ACE-4]

RIN 2120-AA66

Amendment of Jet Routes J-82 and J-94; Extension of Area Navigation (RNAV) Route Q-122; Amendment of VOR Federal Airways V-100, V-138, V-456, and V-505; Removal of VOR Federal Airway V-462; and Removal of the Fort Dodge, IA, Domestic Low Altitude Reporting Point; in the Vicinity of Fort Dodge, IA

AGENCY: Federal Aviation Administration (FAA), DOT.

ACTION: Final rule.

SUMMARY: This action amends Jet Routes J-82 and J-94, RNAV route Q-122, and VOR Federal airways V-100, V-138, V-456, and V-505; and removes VOR Federal airway V-462 and the Fort Dodge, IA, Domestic Low Altitude Reporting Point. This action is necessary due to the planned decommissioning of the VOR portion of the Fort Dodge, IA, VOR/Tactical Air Navigation (VORTAC), which provides navigation guidance to portions of the affected Air Traffic Service (ATS) routes. The Fort Dodge VOR is being decommissioned as part of the FAA's VOR Minimum Operational Network (VOR MON) program.

DATES: Effective date 0901 UTC, November 3, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2021-1043, in the Federal Register (86 FR 70780; December 13, 2021) amending Jet Routes J-82 and J-94, RNAV route Q-122, and VOR Federal airways V-100, V-138, V-456, and V-505; and removing VOR Federal airway V-462 and the Fort Dodge, IA, Domestic Low Altitude Reporting Point, due to the planned decommissioning of the VOR portion of the Fort Dodge, IA, VORTAC. The FAA invited interested parties to participate in this rulemaking effort by submitting written comments on the proposal. No comments were received.

United States Jet Routes, RNAV Q-routes, VOR Federal airways, and Domestic Low Altitude Reporting points are published in paragraphs 2004, 2006, 6010(a), and 7001, respectively, of FAA Order JO 7400.11F, dated August 10, 2021, and effective September 15, 2021, which are incorporated by reference in 14 CFR 71.1. The ATS routes listed in this document will be published subsequently in FAA Order JO 7400.11.

Differences From the NPRM

In the NPRM, the FAA proposed to remove the BEARR, UT, Fix and the O'Neil, NE (ONL), VORTAC from the Q-122 legal description, indicating the route points were on straight segments of the existing route and were not necessary to be included in the route description. However, although the BEARR, UT, Fix and the O'Neill, NE, VORTAC route points were proposed to be removed from the Q-122 legal description, both were being retained within the NAS and would continue to be charted.

Subsequent to the NPRM, the FAA has determined that the route points do in fact represent turn points of one degree or more on the route and are required in the Q-122 route description to retain the existing route structure. Therefore, the FAA is keeping the BEARR, UT, Fix and the O'Neill, NE, VORTAC route points in the Q-122 route description.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by amending Jet Routes J-82 and J-94, RNAV route Q-122, and VOR Federal airways V-100, V-138, V-456, and V-505; and removes VOR Federal Airway V-462 and the Fort Dodge, IA, reporting point.

The ATS route and reporting point amendments are described below.

J-82: J-82 extends between the Battle Ground, WA, VORTAC and the Goshen, IN, VORTAC. The route segment between the Sioux Falls, SD, VORTAC and the Dubuque, IA, VORTAC is removed. The unaffected portions of the existing route remain as charted.

J-94: J-94 extends between the Mustang, NV, VORTAC and the Flint, MI, VORTAC. The route segment between the O'Neill, NE, VORTAC and Dubuque, IA, VORTAC is removed. The unaffected portions of the existing route remain as charted.

Q-122: Q-122 extends between the MOGEE, CA, waypoint (WP) and the Fort Dodge, IA, VORTAC. The Fort Dodge, IA, VORTAC route point is removed from the route description and replaced by the VIRGN, IA, WP located 3.08 NM south of the Fort Dodge, IA, VORTAC site. From the VIRGN, IA, WP, the route is extended 52 miles eastward to the VIGGR, IA, Fix. Lastly, the KATES, NE, Fix is changed to a WP. The unaffected portions of the existing route remain as charted.

V-100: V-100 extends between the Medicine Bow, WY, VOR/Distance Measuring Equipment (VOR/DME) and the O'Neil, NE, VORTAC; between the Fort Dodge, IA, VORTAC and the Dubuque, IA, VORTAC; and between the Northbrook, IL, VOR/DME and the Litchfield, MI, VOR/DME. The airway segment between the Fort Dodge, IA, VORTAC and the Waterloo, IA, VOR/DME is removed. The unaffected portions of the existing airway remain as charted.

V-138: V-138 extends between the Riverton, WY, VOR/DME and the Sidney, NE, VOR/DME; and between the Grand Island, NE, VOR/DME and the Mason City, IA, VOR/DME. The airway segment between the Omaha, IA, VORTAC and the Mason City, IA, VOR/DME is removed. The unaffected portions of the existing airway remain as charted.

V-456: V-456 extends between the Fort Dodge, IA, VORTAC and the Flying Cloud, MN, VOR/DME. The airway segment between the Fort Dodge, IA, VORTAC and the Mankato, MN, VOR/DME is removed. The unaffected portions of the existing airway remain as charted.

V-462: V-462 extends between the Fort Dodge, IA, VORTAC and the Sioux Falls, SD, VORTAC. The airway is removed in its entirety.

V-505: V-505 extends between the Des Moines, IA, VORTAC and the Gopher, MN, VORTAC; and between the Duluth, MN, VORTAC and the International Falls, MN, VOR/DME. The airway segment between the Des Moines, IA, VORTAC and the Mason City, IA, VOR/DME is removed. The unaffected portions of the existing airway remain as charted.

Fort Dodge, IA, Reporting Point: The Fort Dodge, IA, Domestic Low Altitude Reporting Point is removed.

All of the navigational aid radials in the ATS route descriptions below are unchanged and stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending Jet Routes J-82 and J-94, RNAV route Q-122, and VOR Federal airways V-100, V-138, V-456, and V-505; and removing VOR Federal airway V-462 and the Fort Dodge, IA, Domestic Low Altitude Reporting Point, due to the planned decommissioning of the VOR portion of the Fort Dodge, IA, VORTAC navigational aid, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA reviewed this action for factors and circumstances in which a normally categorically excluded action may have a significant environmental impact requiring further analysis. Accordingly, the FAA determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA JO Order 7400.11F, Airspace Designations and Reporting Points, dated August 10, 2021, and effective September 15, 2021, is amended as follows:

Paragraph 2004 Jet Routes.

* * * * *

J-82 [Amended]

From Battle Ground, WA; Donnelly, ID; Dubois, ID; Crazy Woman, WY; Rapid City, SD; to Sioux Falls, SD. From Dubuque, IA; INT Dubuque 095° and Joliet, IL, 317° radials; Joliet; to Goshen, IN.

* * * * *

J-94 [Amended]

From Mustang, NV; Lovelock, NV; Battle Mountain, NV; Lucin, UT; Rock Springs, WY; Scottsbluff, NE; to O'Neill, NE. From Dubuque, IA; Northbrook, IL; Pullman, MI; to Flint, MI.

* * * * *

Paragraph 2006 United States Area Navigation Routes.

* * * * *

Q-122 MOGEE, CA to VIGGR, IA [Amended]
MOGEE, CA | WP | (Lat. 38°20′10.00″ N, long. 121°23′23.00″ W)
MACUS, NV | WP | (Lat. 39°53′00.00″ N, long. 118°48′00.00″ W)
MCORD, NV | WP | (Lat. 40°12′00.00″ N, long. 118°01′00.00″ W)
Lucin, UT (LCU) | VORTAC | (Lat. 41°21′46.63″ N, long. 113°50′26.23″ W)
BEARR, UT | FIX | (Lat. 41°31′50.85″ N, long. 112°29′18.40″ W)
KURSE, WY | WP | (Lat. 42°04′29.66″ N, long. 105°09′36.16″ W)
O'Neill, NE (ONL) | VORTAC | (Lat. 42°28′13.80″ N, long. 098°41′12.94″ W)
KATES, NE | WP | (Lat. 42°32′27.71″ N, long. 096°46′26.52″ W)
VIRGN, IA | WP | (Lat. 42°33′47.92″ N, long. 094°17′39.35″ W)
VIGGR, IA | FIX | (Lat. 42°33′18.67″ N, long. 093°07′26.83″ W)

* * * * *

Paragraph 6010(a) Domestic VOR Federal Airways.

* * * * *

V-100 [Amended]

From Medicine Bow, WY; Scottsbluff, NE; Alliance, NE; Ainsworth, NE; to O'Neill, NE. From Waterloo, IA; to Dubuque, IA. From Northbrook, IL; INT Northbrook 095° and Keeler, MI, 271° radials; Keeler; to Litchfield, MI.

* * * * *

V-138 [Amended]

From Riverton, WY; 35 miles, 80 miles 107 MSL, 16 miles 85 MSL, Medicine Bow, WY; Cheyenne, WY; to Sidney, NE. From Grand Island, NE; INT of Grand Island 099° and Lincoln, NE, 267° radials; Lincoln; to Omaha, IA.

* * * * *

V-456 [Amended]

From Mankato, MN; to Flying Cloud, MN.

* * * * *

V-462 [Removed]

* * * * *

V-505 [Amended]

From Mason City, IA; INT Mason City 349° and Gopher, MN, 188° radials; to Gopher. From Duluth, MN; INT Duluth 331° and Hibbing, MN, 120° radials; Hibbing; INT Hibbing 319° and International Falls, MN, 182° radials; to International Falls.

* * * * *

Paragraph 7001 Domestic Low Altitude Reporting Points.

* * * * *

Fort Dodge, IA [Removed]

* * * * *

Issued in Washington, DC, on August 10, 2022.
Scott M. Rosenbloom,
Manager, Airspace Rules and Regulations.

[FR Doc. 2022-17511 Filed 8-16-22; 8:45 am]

BILLING CODE 4910-13-P